DEPARTMENT OF THE INTERIOR

Bureau of Land Management

[LLNVS03000. L51010000.ER0000. LVRWF1304100; N-85801, N-89530, N-90050, and N-90823; MO# 4500053894; TAS: 14X5017]

Notice of Availability of the Final Supplemental Environmental Impact Statement and Proposed Resource Management Plan Amendment for the Silver State Solar South Project, Clark County, NV

AGENCY: Bureau of Land Management, Interior.

ACTION: Notice of availability.

SUMMARY: In accordance with the National Environmental Policy Act of 1969, as amended, and the Federal Land Policy and Management Act of 1976, as amended, the Bureau of Land Management (BLM) has prepared a Final Supplemental Environmental Impact Statement (EIS)/Proposed Resource Management Plan (RMP) Amendment for the Silver State Solar South Project located on public lands east of Primm, Nevada, and by this notice is announcing its availability.

DATES: BLM planning regulations state that any person who meets the conditions as described in the regulations may protest the BLM's Final Supplemental EIS/Proposed RMP Amendment. A person who meets the conditions and files a protest must file the protest within 30 days of the date that the Environmental Protection Agency publishes its Notice of Availability in the Federal Register.

ADDRESSES: Copies of the Silver State Solar South Project Final Supplemental EIS/Proposed RMP Amendment have been sent to affected Federal, State, and local government agencies and to other stakeholders including the Las Vegas Paiute Tribe, the Fort Mojave Indian Tribe, the Colorado River Indian Tribes, the Chemehuevi Indian Tribe, the Moapa Band of Paiutes, and the Pahrump Paiute Tribe. Copies of the Silver State Solar South Final Supplemental EIS/Proposed RMP Amendment are available for public inspection at the BLM Southern Nevada District Office at 4701 North Torrey Pines Drive, Las Vegas, Nevada. Interested persons may also review the Final Supplemental EIS/Proposed RMP Amendment on the Internet at http://www.blm.gov/nv/st/en/fo/lvfo/blm_programs/energy/Silver_State_Solar_South.html. All protests must be in writing and mailed to one of the following addresses:

Regular Mail: BLM Director (210), Attention: Brenda Hudgens-Williams, P.O. Box 71383, Washington, DC 20024-1383

Overnight Mail: BLM Director (210), Attention: Brenda Hudgens-Williams, 20 M Street SE, Room 2134LM Washington, DC 20003

FOR FURTHER INFORMATION CONTACT: Nancy Christ, Renewable Energy Project Manager, telephone 702-515-5136; address 4701 North Torrey Pines Drive, Las Vegas, NV 89130-2301; or email nchrist@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Silver State Solar Power South, LLC, has submitted a right-of-way (ROW) application for the construction, operation, maintenance, and termination of a 250-350 megawatt (MW) solar energy generation facility within a 13,184-acre area of public land east of Primm, Nevada. The ROW application is assigned BLM case number N-89530. This application expands on ROW application N-85801. The proposed solar energy project would consist of photovoltaic (PV) panels and related infrastructure ROW appurtenances, including a substation and switchyard facilities, and would produce about 250 MWs of electricity under the BLM Preferred Alternative. The solar field and infrastructure would consist of single-axis tracker systems or fixed panels, an underground and overhead electrical power collection system, two step-up transformers, 230 kilovolt (kV) and 220 kV transmission lines, an operation and maintenance area, a switchyard, paved access and maintenance roads, flood and drainage controls, and a fire break. If approved, the Silver State Solar South Project would have a footprint of between 2,427 acres and 3,881 acres, depending on the EIS alternative chosen and the final site configuration. The ROW grant would only be issued for lands needed for project development; no ROW would be granted for the remaining acreage within the application area.

The Final Supplemental EIS addresses new information associated with N-89530 and updates as necessary the consideration of N-85801, which was analyzed in the Final EIS for the Silver State Solar Energy Project, a 400-MW PV solar energy facility. The BLM approved a Record of Decision on October 12, 2010, for the Silver State Solar Energy Project, and authorized ROW N-85077 for the construction and operation a 50 MW PV solar energy facility on 618 acres of BLM-administered lands, which represented the first phase of project development and became the Silver State Solar North Project. The Record of Decision did not authorize ROW application N-85801, which is now included as part of the Silver State Solar South Project, along with ROW application N-89530. The BLM would need to amend the October 1998 Las Vegas RMP to address proposed changes in land and resource use within the Jean Lake/Roach Lake Special Recreation Management Area in order to approve ROW applicationN-89530. The BLM has considered additional changes that would amend the Las Vegas RMP, including a proposed nomination for an Area of Critical Environmental Concern (ACEC) within the Ivanpah Valley, and a Visual Resource Management change within the project boundary from Class III to Class IV.

The Final Supplemental EIS analyzes five alternatives, including a no action alternative (Alternative A) and four action alternatives. Alternative B is Silver State's original proposal (as described in their Plan of Development dated July 2011). This alternative was introduced in initial scoping meetings and does not include perimeter roads. Alternative B would disturb up to 3,881 acres of Federal land. Alternative C would disturb up to 2,546 acres of Federal lands, and is the project layout for Phases II and III that were previously evaluated in the 2010 Final EIS. Alternative D would disturb up to 3,110 acres of Federal land and is a modified layout of Silver State's original proposal (Alternative B above) that would allow access through a historically-used recreation route, avoid impacts to interstate drainages, and reduce impacts to desert tortoise and other special status species. The BLM Preferred Alternative is a modification of Alternative D and was developed after release of the Draft Supplemental EIS/Proposed RMP Amendment to address public and agency concerns related to desert tortoise demographic connectivity within the Ivanpah Valley and agency and public interest in a reduced-scale project. The BLM Preferred Alternative is smaller in area than other analyzed project alternatives and reduces electricity generation capacity to 250 MWs. The BLM Preferred Alternative would disturb up to 2,427 acres of Federal land entirely within the footprint of alternatives analyzed in the Draft Supplemental EIS/Proposed RMP Amendment, and thus involves no new areas of effect. The BLM Preferred Alternative also includes a 31,859-acre area for designation as an ACEC and management prescriptions that would be required for the designated ACEC.

The Final Supplemental EIS/Proposed RMP Amendment describes and analyzes the project's site-specific impacts on air quality, biological resources, cultural resources, special designations (the Special Recreation Management Area), water resources, and geological resources and hazards. Also analyzed were land and airspace use, noise, paleontological resources, public health, socioeconomics, soils, traffic and transportation, visual resources, wilderness characteristics, waste management, worker safety, fire protection, and hazardous materials handling; as well as facility-design engineering, efficiency, reliability, transmission-system engineering, transmission line safety, and nuisance issues.

On October 15, 2012, the BLM published the Notice of Availability for the Draft Supplemental EIS/Proposed RMP Amendment for this proposal in the Federal Register (77 FR 62525). The BLM accepted public comments at three public meetings in Primm, Las Vegas, and Jean, Nevada, and by email, mail, and fax during a 90-day comment period. The BLM received 381 comment submissions from individuals, organizations, and agencies. Comments primarily pertained to evaluation of an additional conservation alternative, consideration of desert tortoise demographic connectivity, and delay of the Final Supplemental EIS/Proposed RMP Amendment until after a regional analysis of tortoise connectivity is completed. The BLM also received statements in support of, or opposition to, the proposal.

Comments on the Draft Supplemental EIS/Proposed RMP Amendment received from the public and internal BLM review were considered and incorporated as appropriate into the proposed project and plan amendment. Public comments resulted in the addition of substantive revisions since the Draft Supplemental EIS/Proposed RMP Amendment was published in October 2012. Substantive revisions include (1) identification of a reduced scale BLM Preferred Alternative to address public and agency concerns related to desert tortoise connectivity within the Ivanpah Valley;(2) additional mitigation measures developed in response to input from resource agencies and stakeholder discussion; and (3) designation of a 31,859-acre ACEC. Minor revisions were also made to correct project acreage; these revisions are identified throughout the document.

Instructions for filing a protest with the Director of the BLM regarding the Proposed RMP Amendment/Final EIS may be found in the “Dear Reader” letter of the Silver State Solar South Project Final Supplemental EIS/Proposed RMP Amendment and at 43 CFR 1610.5-2. All protests must be in writing and mailed to the appropriate address, as set forth in the ADDRESSES section above. Emailed protests will not be accepted as valid protests unless the protesting party also provides the original letter by either regular or overnight mail postmarked by the close of the protest period. Under these conditions, the BLM will consider the email as an advance copy and it will receive full consideration. If you wish to provide the BLM with such advance notification, please direct emails to Brenda_Hudgens-Williams@blm.gov.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2; 43 CFR 1610.5.

Gayle Marrs-Smith,
Las Vegas Field Manager (Acting).

[FR Doc. 2013-22877 Filed 9-19-13; 8:45 am]

BILLING CODE 4310-HC-P